DEPARTMENT OF THE INTERIOR

Fish and Wildlife Service

Notice of Natural Gas Pipeline 30 Year Right-of-Way Permit Application Crossing Land Owned by the Fish and Wildlife Service at Stone Lakes National Wildlife Refuge, Sacramento County, California, for Review and Comment

AGENCY: Fish and Wildlife Service, Interior

ACTION: Notice for public comment period.

SUMMARY: This notice advises the public that Longbow, LLC has applied for the installation of one natural gas pipeline for a 30 year right-of-way permit across the U.S. Fish and Wildlife Service (Service) easement tract (37P) located at Stone Lakes National Wildlife Refuge, Sacramento County, California. The pipeline would be underground and would transport natural gas produced from a well located approximately 800 feet east of the Refuge boundary, to a gas sales point two miles to the southwest, located off the Refuge boundary. The applicant proposes to perpendicular bore the pipeline 15-20 feet under the ground. The portion of the Refuge the pipeline would pass under is the right-of-way for the abandoned Southern Pacific Railroad and associated borrow channel. The pipeline would be bored and installed from private agricultural land 800 feet east of the Refuge using directional drilling equipment, construction and operation of the pipeline would not be detectable at the surface of the Refuge and cause no detectable ground surface disturbances to terrestrial or aquatic habitats within Stone Lakes NWR at any time during it's construction or operation. Therefore the proposed use would not negatively affect the purposes of Stone Lakes NWR or the mission of the Service or impact existing or potential wildlife-dependent recreational uses.

DATES: Written comments should be received on or before March 3, 2005 to receive consideration by the Service.

ADDRESSES: Comments should be addressed to: Manager; California/Nevada Operations Office, Attention Realty Officer, U.S. Fish and Wildlife Service, 2800 Cottage Way, W-2610, Sacramento, CA 95825.

FOR FURTHER INFORMATION CONTACT: Realty Specialist Steve Lay at the above California/Nevada Operations Office address, (916) 414-6447.

SUPPLEMENTARY INFORMATION: The purpose of this Notice is to inform the public that the Service will be proceeding with the processing of this application, the compatibility determination, and the approval processing which includes the preparation of the terms and conditions of the permit. The purpose of the natural gas pipeline is to provide reliable and cost effective energy to the residential, commercial, and industrial customers within Sacramento and adjacent counties. The total width of the subsurface right-of-way is twenty feet to be located ten feet on either side of the centerline. The total length of the right-of-way is 170.85 feet . Therefore the total area of the subsurface right-of-way would comprise approximately 3,417 square feet or 0.0784 acres. The depth of the subsurface right-of-way would be approximately 15-20 feet underground. The pipeline itself is six inches in diameter Schedule 20 ERW carbon steel API 5L Grade B or Grade x 42 steel pipe and will be inserted into a slightly larger diameter (7 inches) hole. An Environmental Action Statement has been prepared by the Stone Lakes NWR Refuge Manager stating the relevant categorical exclusion pertaining to this proposed right-of-way. A Compatibility Determination has been written and has concluded that the proposed use would not negatively affect the purposes of Stone Lakes NWR or the mission of the Service or impact existing or potential wildlife-dependent recreational uses.

Authority: Right-of-way applications for pipelines are to be filed in accordance with Section 28 of the Mineral Leasing Act of 1920 (41 Stat. 449; 30 U.S.C. 185 amended by Pub L. 93-153).

Dated: January 26, 2005.
Ken McDermond,
Acting Manager, California/Nevada Operations Office, Sacramento, California.

[FR Doc. 05-1810 Filed 1-31-05; 8:45 am]

BILLING CODE 4310-55-P